FEDERAL MINE SAFETY AND HEALTH REVIEW COMMISSION

Sunshine Act Notice

TIME AND DATE: 10:00 a.m., Friday, October 18, 2019.

PLACE: The Richard V. Backley Hearing Room, Room 511N, 1331 Pennsylvania Avenue NW, Washington, DC 20004 (enter from F Street entrance).

STATUS: Open.

MATTERS TO BE CONSIDERED: The Commission will consider and act upon the following in open session: KenAmerican Resources, Inc., Docket No. KENT 2013-0211. (Issues include whether the Judge erred in concluding that the operator's employees had not given advance notice of an MSHA inspection.)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

PHONE NUMBER FOR LISTENING TO MEETING: 1-(866) 867-4769; Passcode: 678-100.

Authority: 5 U.S.C. 552b.

Dated: September 18, 2019.
Sarah L. Stewart,
Deputy General Counsel.

[FR Doc. 2019-20590 Filed 9-18-19; 4:15 pm]

BILLING CODE 6735-01-P